DEPARTMENT OF THE INTERIOR

Bureau of Reclamation

Proposed Water Service Contract, El Dorado County Water Agency, El Dorado County, CA

AGENCY: Bureau of Reclamation, Interior.

ACTION: Notice of intent to prepare a draft environmental impact statement/environmental report (EIS/EIR) and notice of scoping meetings.

SUMMARY: Pursuant to Section 102(2)(C) of the National Environmental Policy Act (NEPA) of 1969 (as amended) and Section 21061 of the California Environmental Quality Act (CEQA), the Bureau of Reclamation (Reclamation) and El Dorado County Water Agency (EDCWA) intend to prepare a joint EIS/EIR for a Municipal and Industrial (M&I) water service contract from the Central Valley Project (CVP), California. The proposed project consists of a long term water supply contract under which Reclamation would provide up to 15,000 acre-feet per annum (AFA) to the EDCWA for diversion from Folsom Reservoir or for exchange upstream on the American River. The EDCWA proposes to sub-contract this water equally between El Dorado Irrigation District (EID) and Georgetown Divide Public Utility District (GDPUD). EID proposes to take its supply from Folsom Reservoir. GDPUD proposes to take its supply upstream by way of a water exchange with Placer County Water Agency (PCWA). The GDPUD diversion facility is at the American River Pump Station which is currently under construction.

DATES: Reclamation and EDCWA will host two public scoping meetings on the proposed project. The meeting dates are:

• Tuesday, September 26, 2006, 6 to 8 p.m., Placerville, CA.

• Wednesday, September 27, 2006, 6 to 8 p.m., Greenwood, CA.

Any interested member of the public is invited to attend. An overview of the project will be presented and public comments received. Written comments should be mailed to James A. Roberts at the address below by October 11, 2006.

ADDRESSES: The locations of the two meetings are:

• Placerville—El Dorado Irrigation District, Harry J. Dunlop Customer Service Building, Board Room, 2890 Mosquito Road, Placerville.

• Greenwood—Greenwood Community Center, 4411 Highway 193, Greenwood, CA 95635.

Written comments on this notice or the scope of this EIS/EIR should reference the Bureau of Reclamation/EDCWA CVP Water Service Contract EIS/EIR and be sent to: James A. Roberts, Ph.D., El Dorado County Water Agency, 3932 Ponderosa Road, Suite 200, Shingle Springs, CA 95682.

FOR FURTHER INFORMATION CONTACT: Brian Deason, Environmental Specialist, Bureau of Reclamation, 7794 Folsom Dam Road, Folsom, California 95630, telephone: (16) 989-7279 or James A. Roberts, Ph.D. at the above address, telephone: (530) 621-5392.

SUPPLEMENTARY INFORMATION: In 1990, Congress passed Public Law 101-514, which directed Reclamation to enter into a long-term CVP M&I water service contract with EDCWA. Section 206 (b)(1)(B) provides that Reclamation enter into an M&I water service contract with EDCWA for up to 15,000 AFA. The proposed action is the execution of a long term water service contract with EDCWA. EDCWA intends to apportion this new contract water to both EID and GDPUD based on these parties' individual water needs and timing requests. This will require separate contracts between EDCWA and both EID and GDPUD with Reclamation approval. At present, it is assumed that the new Federal water supply would be split equally between EID and GDPUD such that each purveyor would be provided up to 7,500 AFA.

The EIS/EIR focuses on the potential environmental impacts resulting from the execution and implementation of the new CVP water service contract. The EIS/EIR will include evaluation of the no project alternative as well as alternative delivery quantities. At a project-level, it will address a comprehensive nag of in-stream potential effects resulting from this new 15,000 AFA withdrawal, including a detailed evaluation of the effects to the CVP and the State Water Project (SWP). This will involve assessments of water-related resources including: Fisheries, riparian species/habitats, water-related recreation, water-related cultural resources, and water quality. It will also address water supply impacts across the CVP/SWP, flood control at Folsom Reservoir, and potential effects to CVP hydropower generation and pumping impacts at the reservoir. Water-related analyses will be facilitated through the application and use of Reclamation's planning and operations model, CALSIM II, along with other environmental models that utilize CLASIM II output hydrology. At present, the lead agencies lack sufficient information to ascertain whether any of these impacts will be significant.

No new infrastructure facilities are included with this proposed action. While the EIS/EIR will identify, to the extent known, possible future infrastructure projects that would be needed to fully utilize this contract water, many of these details are not currently known. Accordingly, a program-level assessment of known or potential facilities will be provided in the EIS/EIR.

The EIS/EIR will assess potential impacts to any Indian Trust Assets (ITAs) or any environmental justice issues. Input about concerns or issues related to ITAs is requested from potentially affected Indian groups and individuals, the public, and state and Federal agencies.

This proposed action has been the subject of previous scoping meetings that were published in the Federal Register (58 FR 28034, May 12, 1993, and 63 FR 30512, June 4, 1998). However, because the proposed action and alternatives have been updated and more than eight years has passed since the last scoping meetings, additional scoping activities are being initiated at this time.

Special Services

If special assistance is required at the scoping meetings, please contract Donna Potter at 916-978-5103, TDD 916-978-5608, or via e-mail at lpotter@mp.usbr.gov. Please notify Ms. Potter as far in advance of the meetings as possible to enable Reclamation to secure the needed services. If a request cannot be honored, the requestor will be notified. A telephone device for the hearing impaired (TDD) is available at 916-978-5608.

Our practice is to make comments, including names, home addresses, home phone numbers, and email addresses of respondents, available for public review. Individual respondents may request that we withhold their names and/or home addresses, etc., but if you wish to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Michael Nepstad,
Acting Regional Environmental Officer, Mid-Pacific Region.

[FR Doc. 06-7705 Filed 9-14-06; 8:45 am]

BILLING CODE 4310-MN-M